DEPARTMENT OF STATE

[Public Notice: 6243]

60-Day Notice of Proposed Information Collection: DS-157, Supplemental Nonimmigrant Visa Form, OMB Control Number 1405-0134

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Supplemental Nonimmigrant Visa Form.

• OMB Control Number: 1405-0134.

• Type of Request: Revision of a Currently Approved Collection.

• Originating Office: Bureau of Consular Affairs, Department of State (CA/VO).

• Form Number: DS-157.

• Respondents: Nonimmigrant visa applicants legally required to provide additional security and background information.

• Estimated Number of Respondents: 4,000,000.

• Estimated Number of Responses: 4,000,000.

• Average Hours Per Response: 1 hour.

• Total Estimated Burden: 4,000,000.

• Frequency: Once per respondent.

• Obligation to Respond: Required to Obtain or Retain a Benefit.

DATES: The Department will accept comments from the public up to 60 days from June 2, 2008.

ADDRESSES: You may submit comments by any of the following methods:

• E-mail: VisaRegs@state.gov (Subject line must read DS-157 Reauthorization).

• Mail (paper, disk, or CD-ROM submissions): Chief, Legislation and Regulation Division, Visa Services—DS-157 Reauthorization, 2401 E Street, NW., Washington DC 20520-30106.

• Fax: (202) 663-3898

You must include the DS form number (if applicable), information collection title, and OMB control number in any correspondence.

FOR FURTHER INFORMATION CONTACT: Direct requests for additional information regarding the collection listed in this notice, including requests for copies of the proposed information collection and supporting documents, to Lauren Prosnik of the Office of Visa Services, U.S. Department of State, 2401 E Street, NW. L-603, Washington, DC 20520, who may be reached at (202) 663-2951.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

Applicants will use this form to apply for a nonimmigrant visa to enter the United States. U.S. embassies and consulates will use the data provided in conjunction with the DS-156 to help determine whether aliens are eligible to receive nonimmigrant visas.

Methodology

Applicants may fill out the DS-157 online or print the page and fill it out by hand, and submit it in person at the time of interview.

Dated: April 30, 2008.
Stephen A. Edson,
Deputy Assistant Secretary, Bureau of Consular Affairs, Department of State.

[FR Doc. E8-12247 Filed 5-30-08; 8:45 am]

BILLING CODE 4710-06-P